DEPARTMENT OF THE INTERIOR

National Park Service

National Register of Historic Places; Notification of Pending Nominations and Related Actions

Nominations for the following properties being considered for listing or related actions in the National Register were received by the National Park Service before December 17, 2005.

Pursuant to § 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by January 12, 2006.

John W. Roberts,
Acting Chief, National Register/National Historic Landmarks Program.

ARIZONA

Maricopa County

Sacred Heart Home for the Aged, 1110 N. 16th St., Phoenix, 05001548

MISSISSIPPI

Yazoo County

Afro-American Sons and Daughters Hospital, 8th St. and Webster Ave., Yazoo City, 05001558

MISSOURI

Franklin County

St. Albans Farms Stone Barn, 3476 St. Albans Rd., St. Albans, 05001550

Oregon County

Greer Mill, W. Side, MO 19, 10 mi. N of Alton, Alton, 05001551

St. Louis Independent City

Union Depot Railroad Co. Building, (South St. Louis Historic Working and Middle Class Streetcar Suburbs MPS), 2727 S. Jefferson Ave., St. Louis (Independent City), 05001549

NORTH CAROLINA

Rutherford County

Washburn Historic District (Boundary Increase), 1037 Gun Club Rd., Bostic, 05001552

OREGON

Hood River County

First National Bank of Hood River, 304 Oak St., Hood River, 05001555

Heilbronner Block, 100-118 Third St., Hood River, 05001554

Multnomah County

Lombard Automobile Buildings, 123-35 NW Broadway;134 NW 8th Ave., Portland, 05001553

Ruby, Alfred C. and Nettie, House, 211 NE 39th Ave., Portland, 05001559

Spokane, Portland and Seattle Railway Steam Locomotive, Roundhouse, UPRPR's Brooklyn Yard (SE Portland), Portland, 05001557

TENNESSEE

Shelby County

Gayoso—Peabody Historic District (Boundary Decrease), Roughly along S. Main St. from McCall Place to Monroe Ave., Memphis, 05001556

[FR Doc. E5-7994 Filed 12-27-05; 8:45 am]

BILLING CODE 4312-51-P